POSTAL SERVICE

39 CFR Part 111

Retirement of FASTforward Technology

AGENCY: Postal Service™.

ACTION: Final rule.

SUMMARY: The Postal Service will revise the Mailing Standards of the United States Postal Service, Domestic Mail Manual (DMM®) 602.5.0 to terminate the use of FASTforward™ technology as a Move Update option for commercial First-Class Mail®, First-Class Package Service™, Standard Mail®, and Parcel Select Lightweight® mailings.

DATES: Effective date: January 27, 2013.

FOR FURTHER INFORMATION CONTACT: Charles Hunt at 901-681-4651, or Bill Chatfield at 202-268-7278.

SUPPLEMENTARY INFORMATION: On September 4, 2012, the Postal Service published a proposed rule in the Federal Register (77 FR 53830) to retire FASTforward technology. We received no formal comments on the proposal. Therefore, we will proceed as proposed.

FASTforward, a licensed hardware/software change-of-address system, was developed in 1996 to enable Multi-Line Optical Character Reader (MLOCR) users a means to meet the Move Update requirement for their commercial mailings. Using the best technology then available, most of the FASTforward “black boxes” were 386/486 processors using secured cards and cabling operations. By 2009, many of the original black boxes were failing, and finding replacement parts became difficult. In February 2009, the USPS™ announced its intention to retire the FASTforward system by the end of FY2012 and migrate the licensees to the newer more robust NCOALink® MPE (Mail Processing Equipment) licensed software system. In August 2011, the USPS established an ad hoc workgroup consisting of postal personnel, MLOCR manufacturers and mailers and representatives of the National Association of Presort Mailers (NAPM). The workgroup has resolved the issues to ensure a smooth migration from the antiquated FASTforward system to the newer NCOALink MPE system.

The termination date for FASTforward will be January 27, 2013. Mailers may begin to use the NCOALink MPE system at any time as a method of meeting the Move Update standards.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of the Mailing Standards of the United States Postal Service, Domestic Mail Manual (DMM):

Mailing Standards of the United States Postal Service, Domestic Mail Manual (DMM):

* * * * *

600 Basic Standards for All Mailing Services

* * * * *

602 Addressing

* * * * *

5.0 Move Update Standards

* * * * *

5.2 USPS-Approved Methods

The following methods are authorized for meeting the Move Update standard:

* * * * *

[Revise item 5.2b as follows:]

b. National Change of Address Linkage System (NCOALink). This includes both pre-mail NCOALink processing systems and the physical mailpiece processing equipment system: National Change of Address Linkage System Mail Processing Equipment (NCOALink MPE). See the NCOALink page (NCOALink MPE Solutions) on ribbs.usps.gov ᶠ or more information on the MPE application.

[Delete item 5.2c in its entirety and redesignate current items 5.2d and 5.2e as new 5.2c and 5.2d respectively.]

* * * * *

We will publish an appropriate amendment to 39 CFR part 111 to reflect these changes.

Stanley F. Mires,
Attorney, Legal Policy and Legislative Advice.

[FR Doc. 2012-26697 Filed 11-1-12; 8:45 am]

BILLING CODE 7710-12-P